DEPARTMENT OF HOMELAND SECURITY

Federal Emergency Management Agency

44 CFR Part 64

[Docket ID FEMA-2010-0003; Internal Agency Docket No. FEMA-8161]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region IV
Kentucky:
Bourbon County, Unincorporated Areas | 210271 | July 31, 1975, Emerg; July 16, 1981, Reg; January 6, 2011, Susp | Jan. 6, 2011 | Jan. 6, 2011.
Cynthiana, City of, Harrison County | 210107 | February 26, 1975, Emerg; October 15, 1981, Reg; January 6, 2011, Susp | ......do | Do.
Harrison County, Unincorporated Areas | 210329 | May 31, 1985, Emerg; May 31, 1985, Reg; January 6, 2011, Susp | ......do | Do.
Millersburg, City of, Bourbon County | 210014 | October 27, 1977, Emerg; September 27, 1985, Reg; January 6, 2011, Susp | ......do | Do.
Paris, City of, Bourbon County | 210015 | July 23, 1974, Emerg; June 15, 1981, Reg; January 6, 2011, Susp | ......do | Do.
South Carolina:
Campobello, Town of, Spartanburg County | 450216 | July 7, 1975, Emerg; November 24, 1978, Reg; January 6, 2011, Susp | ......do | Do.
Duncan, Town of, Spartanburg County | 450177 | April 29, 1975, Emerg; May 27, 1977, Reg; January 6, 2011, Susp | ......do | Do.
Inman, City of, Spartanburg County | 450217 | May 14, 1976, Emerg; November 24, 1978, Reg; January 6, 2011, Susp | ......do | Do.
Landrum, Town of, Spartanburg County | 450215 | November 24, 1975, Emerg; July 16, 1981, Reg; January 6, 2011, Susp | ......do | Do.
Lyman, Town of Spartanburg County | 450219 | May 15, 1975, Emerg; May 27, 1977, Reg; January 6, 2011, Susp | ......do | Do.
Pacolet, Town of, Spartanburg County | 450180 | October 3, 1975, Emerg; November 24, 1978, Reg; January 6, 2011, Susp | ......do | Do.
Spartanburg, City of, Spartanburg County | 450181 | January 14, 1974, Emerg; June 1, 1978, Reg; January 6, 2011, Susp | ......do | Do.
Spartanburg County, Unincorporated Areas | 450176 | March 5, 1975, Emerg; August 1, 1984, Reg; January 6, 2011, Susp | ......do | Do.
Woodruff, City of, Spartanburg County | 450214 | December 12, 1975, Emerg; November 24, 1978, Reg; January 6, 2011, Susp | ......do | Do.
Region V
Indiana:
Indian Village, Town of, St. Joseph County | 180225 | June 11, 1981, Emerg; June 11, 1981, Reg; January 6, 2011, Susp | ......do | Do.
Mishawaka, City of, St. Joseph County | 180227 | February 24, 1975, Emerg; August 17, 1981, Reg; January 6, 2011, Susp | ......do | Do.
North Liberty, Town of, St. Joseph County | 180228 | February 24, 1975, Emerg; August 19, 1985, Reg; January 6, 2011, Susp | ......do | Do.
Osceola, Town of, St. Joseph County | 180229 | N/A, Emerg; December 14, 1992, Reg; January 6, 2011, Susp | ......do | Do.
Roseland, Town of, St. Joseph County | 185179 | May 5, 1972, Emerg; May 4, 1973, Reg; January 6, 2011, Susp | ......do | Do.
South Bend, City of, St. Joseph County | 180231 | August 16, 1974, Emerg; February 1, 1978, Reg; January 6, 2011, Susp | ......do | Do.
St. Joseph County, Unincorporated Areas | 180224 | October 22, 1971, Emerg; August 15, 1978, Reg; January 6, 2011, Susp | ......do | Do.
Walkerton, Town of, St. Joseph County | 180232 | July 15, 1975, Emerg; April 15, 1981, Reg; January 6, 2011, Susp | ......do | Do.
Ohio:
Belle Valley, Village of, Noble County | 390429 | September 22, 1975, Emerg; November 2, 1990, Reg; January 6, 2011, Susp | ......do | Do.
Caldwell, Village of, Noble County | 390430 | August 1, 1975, Emerg; September 4, 1987, Reg; January 6, 2011, Susp | ......do | Do.
Dexter City, Village of, Noble County | 390431 | August 19, 1975, Emerg; August 19, 1987, Reg; January 6, 2011, Susp | ......do | Do.
Noble County, Unincorporated Areas | 390428 | May 19, 1976, Emerg; January 1, 1988, Reg; January 6, 2011, Susp | ......do | Do.
Sarahsville, Village of, Noble County | 390706 | February 9, 2006, Emerg; January 6, 2011, Reg; January 6, 2011, Susp | ......do | Do
Region VI
Arkansas:
Drew County, Unincorporated Areas | 050430 | October 14, 1998, Emerg; July 1, 2009, Reg; January 6, 2011, Susp | ......Do. | Do.
Monticello, City of, Drew County | 050074 | April 3, 1975, Emerg; April 1, 1982, Reg; January 6, 2011, Susp | ......do | Do.
Tillar, City of, Desha and Drew Counties | 050075 | April 3, 1975, Emerg; February 1, 1988, Reg; January 6, 2011, Susp | ......do | Do.
Wilmar, City of, Drew County | 050076 | July 17, 1975, Emerg; October 12, 1982, Reg; January 6, 2011, Susp | ......do | Do.
Winchester, City of, Drew County | 050077 | April 15, 2004, Emerg; August 1, 2009, Reg; January 6, 2011, Susp | ......do | Do.
New Mexico:
Bayard, City of, Grant County | 350019 | October 28, 1975, Emerg; July 1, 1988, Reg; January 6, 2011, Susp | ......do | Do.
Grant County, Unincorporated Areas | 350121 | July 2, 1991, Emerg; April 1, 1992, Reg; January 6, 2011, Susp | ......do | Do.
Santa Clara, Village of, Grant County | 350020 | June 5, 1975, Emerg; July 1, 1987, Reg; January 6, 2011, Susp | ......do | Do.
Silver City, Town of, Grant County | 350022 | July 22, 1975, Emerg; May 17, 1988, Reg; January 6, 2011, Susp | ......do | Do.
Oklahoma:
Beggs, City of, Okmulgee County | 400345 | October 8, 1976, Emerg; September 19, 1978, Reg; January 6, 2011, Susp | ......do | Do.
Butler, Town of, Custer County | 400266 | February 15, 1983, Emerg; May 15, 1985, Reg; January 6, 2011, Susp | ......do | Do.
Clinton, City of, Custer and Washita Counties | 400054 | November 25, 1974, Emerg; July 2, 1980, Reg; January 6, 2011, Susp | ......do | Do.
Custer County, Unincorporated Areas | 400486 | July 20, 1994, Emerg; N/A, Reg; January 6, 2011, Susp | ......do | Do.
Dewar, Town of, Okmulgee County | 400143 | November 21, 1975, Emerg; June 5, 1985, Reg; January 6, 2011, Susp | ......do | Do.
Henryetta, City of, Okmulgee County | 400144 | August 19, 1975, Emerg; March 4, 1980, Reg; January 6, 2011, Susp | ......do | Do.
Hoffman, Town of, Okmulgee County | 400285 | September 30, 1976, Emerg; August 5, 1985, Reg; January 6, 2011, Susp | ......do | Do.
Morris, City of, Okmulgee County | 400407 | February 24, 1977, Emerg; June 29, 1982, Reg; January 6, 2011, Susp | ......do | Do.
Okmulgee, City of, Okmulgee County | 400145 | April 29, 1975, Emerg; February 4, 1981, Reg; January 6, 2011, Susp | ......do | Do.
Okmulgee County, Unincorporated Areas | 400492 | April 1, 1985, Emerg; September 27, 1991, Reg; January 6, 2011, Susp | ......do | Do.
Weatherford, City of, Custer County | 400056 | February 7, 1975, Emerg; December 18, 1979, Reg; January 6, 2011, Susp | ......do | Do.
Texas:
Alto, Town of, Cherokee County | 480740 | January 24, 1977, Emerg; August 19, 1985, Reg; January 6, 2011, Susp | ......do | Do.
Bosque County, Unincorporated Areas | 480051 | May 4, 1976, Emerg; August 1, 1987, Reg; January 6, 2011, Susp | ......do | Do.
Burleson County, Unincorporated Areas | 481169 | July 6, 1987, Emerg; January 18, 1989, Reg; January 6, 2011, Susp | ......do | Do.
Caldwell, City of, Burleson County | 480089 | March 31, 1975, Emerg; September 30, 1988, Reg; January 6, 2011, Susp | ......do | Do.
Cherokee County, Unincorporated Areas | 480739 | June 16, 1989, Emerg; December 1, 1989, Reg; January 6, 2011, Susp | ......do | Do.
Clifton, City of, Bosque County | 480052 | May 1, 1975, Emerg; April 1, 1987, Reg; January 6, 2011, Susp | ......do | Do.
Cranfills Gap, City of, Bosque County | 481512 | May 20, 1991, Emerg; January 1, 1992, Reg; January 6, 2011, Susp | ......do | Do.
DeWitt County, Unincorporated Areas | 481171 | October 1, 1981, Emerg; May 1, 1987, Reg; January 6, 2011, Susp | ......do | Do.
Iredell, Town of, Bosque County | 481072 | April 7, 1992, Emerg; November 1, 1992, Reg; January 6, 2011, Susp | ......do | Do.
Jacksonville, City of, Cherokee County | 480123 | September 3, 1974, Emerg; February 18, 1981, Reg; January 6, 2011, Susp | ......do | Do.
Meridian, City of, Bosque County | 480053 | June 4, 1975, Emerg; August 1, 1987, Reg; January 6, 2011, Susp | ......do | Do.
New Summerfield, City of, Cherokee County | 481153 | January 21, 2010, Emerg; January 6, 2011, Reg; January 6, 2011, Susp | ......do | Do.
Rusk, City of, Cherokee County | 480124 | June 20, 1975, Emerg; June 1, 1988, Reg; January 6, 2011, Susp | ......do | Do.
Snook, City of, Burleson County | 480090 | N/A, Emerg; September 15, 2001, Reg; January 6, 2011, Susp | ......do | Do.
Somerville, City of, Burleson County | 480091 | July 21, 1975, Emerg; June 4, 1990, Reg; January 6, 2011, Susp | ......do | Do.
Troup, City of, Cherokee and Smith Counties | 480570 | August 15, 1975, Emerg; January 23, 1979, Reg; January 6, 2011, Susp | ......do | Do.
Valley Mills, City of, Bosque and McLennan Counties | 480054 | July 31, 1975, Emerg; November 15, 1979, Reg; January 6, 2011, Susp | ......do | Do.
Wells, City of, Cherokee County | 480741 | February 4, 1991, Emerg; June 1, 1991, Reg; January 6, 2011, Susp | ......do | Do.
Yorktown, City of, DeWitt County | 480197 | January 16, 1974, Emerg; March 1, 1987, Reg; January 6, 2011, Susp | ......do | Do.
Region VII
Iowa:
Anita, City of, Cass County | 190048 | April 11, 1975, Emerg; June 17, 1986, Reg; January 6, 2011, Susp | ......do | Do.
Atlantic, City of, Cass County | 190049 | July 8, 1975, Emerg; August 5, 1986, Reg; January 6, 2011, Susp | ......do | Do.
Cass County, Unincorporated Areas | 190852 | August 25, 1975, Emerg; September 1, 1986, Reg; January 6, 2011, Susp | ......do | Do.
Lewis, City of, Cass County | 190347 | October 26, 1976, Emerg; August 26, 1977, Reg; January 6, 2011, Susp | ......do | Do.
Marne, City of, Cass County | 190348 | September 11, 2008, Emerg; January 6, 2011, Reg; January 6, 2011, Susp | ......do | Do.
Massena, City of, Cass County | 190349 | January 15, 2008, Emerg; January 6, 2011, Reg; January 6, 2011, Susp | ......do | Do.
Missouri:
Calhoun, City of, Henry County | 290622 | November 7, 1975, Emerg; August 19, 1985, Reg; January 6, 2011, Susp | ......do | Do.
Cedar County, Unincorporated Areas | 290791 | N/A, Emerg; April 11, 2006, Reg; January 6, 2011, Susp | ......do | Do.
Clinton, City of, Henry County | 290155 | June 25, 1975, Emerg; July 4, 1988, Reg; January 6, 2011, Susp | ......do | Do.
Henry County, Unincorporated Areas | 290804 | January 29, 2007, Emerg; January 6, 2011, Reg; January 6, 2011, Susp | ......do | Do.
Stockton, City of, Cedar County | 290667 | N/A, Emerg; September 25, 2003, Reg; January 6, 2011, Susp | ......do | Do.
Windsor, City of, Henry County | 290156 | March 30, 1976, Emerg; September 18, 1985, Reg; January 6, 2011, Susp | ......do | Do.
Region IX
California: Gridley, City of, Butte County | 060019 | N/A, Emerg; April 25, 1997, Reg; January 6, 2011, Susp | ......do | Do.
*do = Ditto.
Code for reading third column: Emerg.—Emergency; Reg.—Regular; Susp.—Suspension.

Dated: December 7, 2010.
Sandra K. Knight,
Deputy Federal Insurance and Mitigation Administrator, Mitigation.

[FR Doc. 2010-32106 Filed 12-21-10; 8:45 am]

BILLING CODE 9110-12-P